DEPARTMENT OF TRANSPORTATION

Office of the Secretary

Aviation Proceedings, Agreements Filed the Week Ending August 29, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0268.

Date Filed: August 29, 2008.

Parties: Members of the International Air Transport Association.

Subject:

Mail Vote 004/08 and 005/08.

Cargo Tariff Coordinating Conference.

Composite Meeting, (Memo 0618).

Intended effective date: 1 October 2008.

Renee V. Wright,
Program Manager, Docket Operations, Federal Register Liaison.

[FR Doc. E8-21435 Filed 9-12-08; 8:45 am]

BILLING CODE 4910-9X-P